DEPARTMENT OF ENERGY

Federal Energy Regulatory Commission

Combined Notice of Filings #3

Take notice that the Commission received the following electric rate filings:

Docket Numbers: ER10-1585-024; ER10-1594-024; ER10-1617-024; ER10-1626-015; ER10-1628-024; ER10-1632-026; ER12-60-026; ER14-2945-001; ER15-1747-001; ER15-1748-001; ER15-1749-001; ER15-1754-001; ER16-733-015; ER16-1148-015; ER17-554-001; ER18-1960-007; ER23-1220-001.

Applicants: High Point Solar LLC, Tenaska Pennsylvania Partners, LLC, Wolf Run Energy LLC, Tenaska Energía de Mexico, S. de R. L. de C.V.,LQA, LLC, Alpaca Energy LLC, Oxbow Creek Energy LLC, Milan Energy LLC, Beaver Dam Energy LLC, Roundtop Energy LLC, Tenaska Power Management, LLC, Tenaska Power Services Co., Texas Electric Marketing, LLC, Tenaska Virginia Partners, L.P., New Mexico Electric Marketing, LLC, California Electric Marketing, LLC, Alabama Electric Marketing, LLC.

Description: Notice of Change in Status of Alabama Electric Marketing, LLC, et al.

Filed Date: 1/31/24.

Accession Number: 20240131-5629.

Comment Date: 5 p.m. ET 2/21/24.

Docket Numbers: ER10-1586-012; ER10-1630-012.

Applicants: Wolf Hills Energy, LLC, Big Sandy Peaker Plant, LLC.

Description: Notice of Change in Status of Big Sandy Peaker Plant, LLC, et al.

Filed Date: 1/31/24.

Accession Number: 20240131-5624.

Comment Date: 5 p.m. ET 2/21/24.

Docket Numbers: ER10-2596-014; ER12-2200-010.

Applicants: Mehoopany Wind Energy LLC, Fowler Ridge II Wind Farm LLC.

Description: Notice of Change in Status of Fowler Ridge II Wind Farm LLC, et al.

Filed Date: 1/31/24.

Accession Number: 20240131-5630.

Comment Date: 5 p.m. ET 2/21/24.

Docket Numbers: ER11-2044-043; ER10-1520-014; ER10-1521-014; ER10-1522-009; ER12-162-036; ER13-1266-049; ER15-2211-046; ER20-2493-009; ER21-2280-006; ER22-1385-008; ER23-674-005; ER23-676-005.

Applicants: BHE Power Watch, LLC, BHE Wind Watch, LLC, BHER Market Operations, LLC., Independence Wind Energy LLC, OTCF, LLC, MidAmerican Energy Services, LLC, CalEnergy, LLC, Bishop Hill Energy II LLC, Occidental Chemical Corporation, Occidental Power Marketing, L.P., Occidental Power Services, Inc., MidAmerican Energy Company.

Description: Notice of Non-Material Change in Status of MidAmerican Energy Company, et al.

Filed Date: 1/31/24.

Accession Number: 20240131-5626.

Comment Date: 5 p.m. ET 2/21/24.

Docket Numbers: ER21-1755-007; ER23-1642-004; ER14-2498-015; ER14-2500-015.

Applicants: Newark Energy Center, LLC, Hartree-Meadowlands Newark, LLC, NE Renewable Power, LLC, Hartree Partners, LP.

Description: Notice of Change in Status of Hartree Partners, LP, et al.

Filed Date: 1/31/24.

Accession Number: 20240131-5632.

Comment Date: 5 p.m. ET 2/21/24.

Docket Numbers: ER23-2091-001.

Applicants: Goleta Energy Storage, LLC.

Description: Notice of Non-Material Change in Status of Goleta Energy Storage, LLC.

Filed Date: 1/31/24.

Accession Number: 20240131-5631.

Comment Date: 5 p.m. ET 2/21/24.

Docket Numbers: ER23-2507-002.

Applicants: Central Hudson Gas & Electric Corporation, New York Independent System Operator, Inc.

Description: Compliance filing: Central Hudson Gas & Electric Corporation submits tariff filing per 35: Central Hudson Compliance: Rate Schedule 19 Formula Rate Template to be effective 9/27/2023.

Filed Date: 2/2/24.

Accession Number: 20240202-5050.

Comment Date: 5 p.m. ET 2/23/24.

Docket Numbers: ER23-2716-001; ER21-2445-003.

Applicants: Glacier Sands Wind Power, LLC, Moraine Sands Wind Power, LLC.

Description: Notice of Non-Material Change in Status of Moraine Sands Wind Power, LLC, et al.

Filed Date: 1/31/24.

Accession Number: 20240131-5623.

Comment Date: 5 p.m. ET 2/21/24.

Docket Numbers: ER24-433-001.

Applicants: Flat Ridge 4 Wind, LLC.

Description: Compliance filing: Filing of Shared Facilities Agreement Actual Rate Schedule Effective Date to be effective N/A.

Filed Date: 2/2/24.

Accession Number: 20240202-5056.

Comment Date: 5 p.m. ET 2/23/24.

Docket Numbers: ER24-434-001.

Applicants: Flat Ridge 5 Wind Energy LLC.

Description: Compliance filing: Filing of Shared Facilities Agreement Actual Rate Schedule Effective Date to be effective N/A.

Filed Date: 2/2/24.

Accession Number: 20240202-5057.

Comment Date: 5 p.m. ET 2/23/24.

Docket Numbers: ER24-792-001.

Applicants: PJM Interconnection, L.L.C.

Description: Tariff Amendment: Request to Defer Action on Amendment to WMPA, SA No. 6731; Queue No. AE2-248 to be effective 12/31/9998.

Filed Date: 2/2/24.

Accession Number: 20240202-5131.

Comment Date: 5 p.m. ET 2/23/24.

Docket Numbers: ER24-1181-000.

Applicants: Pacific Gas and Electric Company.

Description: Notice of Termination of Service Agreement No. 110 under Pacific Gas and Electric Company's FERC Electric Tariff Volume No. 5.

Filed Date: 1/31/24.

Accession Number: 20240131-5627.

Comment Date: 5 p.m. ET 2/21/24.

Docket Numbers: ER24-1182-000.

Applicants: Midcontinent Independent System Operator, Inc.

Description: 205(d) Rate Filing: 2024-02-02_SA 3114 Entergy Arkansas-Walnut Bend Solar 2nd Rev GIA (J552) to be effective 1/23/2024.

Filed Date: 2/2/24.

Accession Number: 20240202-5054.

Comment Date: 5 p.m. ET 2/23/24.

Docket Numbers: ER24-1183-000.

Applicants: Fanfare Energy, LLC.

Description: Baseline eTariff Filing: Fanfare Energy, LLC MBR Tariff Application to be effective 4/3/2024.

Filed Date: 2/2/24.

Accession Number: 20240202-5089.

Comment Date: 5 p.m. ET 2/23/24.

Docket Numbers: ER24-1184-000.

Applicants: Midcontinent Independent System Operator, Inc.

Description: 205(d) Rate Filing: 2024-02-02_Credit enhancements on Alternative Capitalization and MPD to be effective 5/1/2024.

Filed Date: 2/2/24.

Accession Number: 20240202-5096.

Comment Date: 5 p.m. ET 2/23/24.

Docket Numbers: ER24-1185-000.

Applicants: Duke Energy Florida, LLC.

Description: Tariff Amendment: DEF—Bartow—Notice of Cancellation of RS No. 378 to be effective 4/3/2024.

Filed Date: 2/2/24.

Accession Number: 20240202-5126.

Comment Date: 5 p.m. ET 2/23/24.

Docket Numbers: ER24-1186-000.

Applicants: PJM Interconnection, L.L.C.

Description: 205(d) Rate Filing: Original CSA, Service Agreement No. 7162; Queue No. AE1-093 to be effective 1/3/2024.

Filed Date: 2/2/24.

Accession Number: 20240202-5128.

Comment Date: 5 p.m. ET 2/23/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 2, 2024.
Debbie-Anne A. Reese,
Acting Secretary.

[FR Doc. 2024-02602 Filed 2-7-24; 8:45 am]

BILLING CODE 6717-01-P